DEPARTMENT OF TRANSPORTATION

Maritime Administration

[Docket No. MARAD-2024-0156]

Request for Comments on the Reinstatement of a Previously Approved Information Collection: United States Marine Highway Program

AGENCY: Maritime Administration, DOT.

ACTION: Notice.

SUMMARY: The Maritime Administration (MARAD) invites public comments on our intention to request the Office of Management and Budget (OMB) approval to renew an information collection in accordance with the Paperwork Reduction Act of 1995. The proposed collection OMB 2133-0541 (United States Marine Highway Program) (also known as America's Marine Highway Program) will be used to evaluate and review applications being submitted for grant award consideration. This collection was initially discontinued on August 28, 2023, due to the elimination of the project designation application for this program from the James M. Inhofe National Defense Authorization Act for Fiscal Year 2023. However, in order to facilitate the operation of the United States Marine Highway Program Grant Program (the Program), which provides funding to develop, expand, or promote marine highway transportation or shipper use of marine highway transportation, this collection is being reinstated. We are required to publish this notice in the Federal Register to obtain comments from the public and affected agencies.

DATES: Comments must be submitted on or before February 4, 2025.

ADDRESSES: You may submit comments identified by Docket No. MARAD-2024-0156 through one of the following methods:

• Federal eRulemaking Portal: www.regulations.gov. Search using the above DOT docket number and follow the online instructions for submitting comments.

• Mail or Hand Delivery: Docket Management Facility, U.S. Department of Transportation, 1200 New Jersey Avenue SE, West Building, Room W12-140, Washington, DC 20590, between 9 a.m. and 5 p.m., Monday through Friday, except on Federal holidays.

Instructions: All submissions must include the agency name and docket number for this rulemaking.

Note: All comments received will be posted without change to www.regulations.gov including any personal information provided.

Comments are invited on: (a) whether the proposed collection of information is necessary for the Department's performance; (b) the accuracy of the estimated burden; (c) ways for the Department to enhance the quality, utility, and clarity of the information collection; and (d) ways that the burden could be minimized without reducing the quality of the collected information. The agency will summarize and/or include your comments in the request for OMB's clearance of this information collection.

FOR FURTHER INFORMATION CONTACT: Timothy Pickering, 202-366-0704, Office of Ports & Waterways Planning, Maritime Administration, 1200 New Jersey Ave. SE, Washington, DC 20590, Email: timothy.pickering@dot.gov.

SUPPLEMENTARY INFORMATION:

Title: United States Marine Highway Program

OMB Control Number: 2133-0541.

Type of Request: Reinstatement of a Previously Approved Collection Abstract: The Department of Transportation will reinstate solicitation of grant applications for Marine Highway Grant Funding as specified in the United States Marine Highway Program, codified at 46 U.S.C. 55601. These applications must comply with the requirements of the referenced United States Marine Highway Notice of Funding Opportunity and be submitted in accordance with the instructions contained in that Notice of Funding Opportunity. United States Marine Highway Grant Notice of Funding Opportunities occurs when funds are appropriated by Congress.

Respondents: States, political subdivisions of a State, or a local government, a United States metropolitan planning organization, a United States port authority, a Tribal government, or a United States private sector operator of marine highway projects.

Affected Public: Vessel Operators.

Estimated Number of Respondents: 25.

Estimated Number of Responses: 25.

Estimated Hours per Response: 125.

Annual Estimated Total Annual Burden Hours: 1,700.

Frequency of Response: Annually.

(Authority: The Paperwork Reduction Act of 1995; 44 U.S.C. Chapter 35, as amended; and 49 CFR 1.49.)

By Order of the Maritime Administrator.
T. Mitchell Hudson, Jr.,
Secretary, Maritime Administration.

[FR Doc. 2024-28614 Filed 12-5-24; 8:45 am]

BILLING CODE 4910-81-P